DEPARTMENT OF TRANSPORTATION

Federal Aviation Administration

14 CFR Part 71

[Docket No. FAA-2019-0613; Airspace Docket No. 19-ASW-9]

RIN 2120-AA66

Revocation and Amendment of the Class E Airspace; Lafayette, LA

AGENCY: Federal Aviation Administration (FAA), DOT.

ACTION: Final rule.

SUMMARY: This action revokes the Class E airspace designated as an extension to a Class C surface area at Lafayette Regional Airport/Paul Fournet Field, Lafayette, LA; amends the Class E airspace designated as a surface area at Lafayette Regional Airport/Paul Fournet Field; and amends the Class E airspace extending upward from 700 feet above the surface at Lafayette Regional Airport/Paul Fournet Field and Acadiana Regional Airport, New Iberia, LA, which is contained within the Lafayette, LA, airspace legal description. This action is due to an airspace review caused by the decommissioning of the Acadi non-directional beacon (NDB), which provided navigation information for the instrument procedures at Acadiana Regional Airport, and the development of new instrument procedures at Lafayette Regional Airport/Paul Fournet Field. The geographic coordinates of the Lafayette Regional Airport/Paul Fournet Field and the names of Lafayette Regional Airport/Paul Fournet Field, Acadiana Regional Airport, and Abbeville Chris Crusta Memorial Airport, Abbeville, LA, which is contained within the Lafayette, LA, airspace legal description, are also being updated to coincide with the FAA's aeronautical database.

DATES: Effective 0901 UTC, March 26, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it revokes the Class E airspace designated as an extension to a Class C surface area at Lafayette Regional Airport/Paul Fournet Field, Lafayette, LA, and amends the Class E airspace extending upward from 700 feet above the surface at Lafayette Regional Airport/Paul Fournet Field and Acadiana Regional Airport, New Iberia, LA, to support instrument flight rule operations at these airports.

History

The FAA published a notice of proposed rulemaking in the Federal Register (84 FR 43089; August 20, 2019) for Docket No. FAA-2019-0613 to revoke the Class E airspace designated as an extension to a Class C surface area at Lafayette Regional Airport/Paul Fournet Field, Lafayette, LA, and amend the Class E airspace extending upward from 700 feet above the surface at Lafayette Regional Airport/Paul Fournet Field and Acadiana Regional Airport, New Iberia, LA. Interested parties were invited to participate in this rulemaking effort by submitting written comments on the proposal to the FAA. No comments were received.

Class E airspace designations are published in paragraph 6002, 6003, and 6005, respectively, of FAA Order 7400.11D, dated August 8, 2019, and effective September 15, 2019, which is incorporated by reference in 14 CFR 71.1. The Class E airspace designations listed in this document will be published subsequently in the Order.

FAA Order 7400.11, Airspace Designations and Reporting Points, is published yearly and effective on September 15.

Differences From the NPRM

Subsequent to publication of the NPRM, the FAA discovered that the name and geographic coordinates of Lafayette Regional Airport/Paul Fournet Field needed to be updated in the Class E airspace designated as a surface area for Lafayette, LA, which had been inadvertently omitted from the NPRM. As these changes are administrative in nature and do not amend the airspace itself, the amendment to the Class E airspace designated as a surface area for Lafayette, LA, is included in this action.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This amendment to Title 14 Code of Federal Regulations (14 CFR) part 71:

Removes the Class E airspace designated as an extension to a Class C surface area at Lafayette Regional Airport/Paul Fournet Field, Lafayette, LA, as it is no longer required;

Amends the Class E airspace designated as a surface area at Lafayette Regional Airport/Paul Fournet Field by amending the header of the airspace legal description from “Lafayette Regional Airport, LA” to “Lafayette, LA” to comply with FAA Order 7400.2M, Procedures for Handling Airspace Matters; updating the name and geographic coordinates of Lafayette Regional Airport/Paul Fournet Field (previously Lafayette Regional Airport) to coincide with the FAA's aeronautical database; and updating the outdated term “Airport/Facility Directory” with “Chart Supplement”;

And amends the Class E airspace extending upward from 700 feet above the surface to within a 7.5-mile radius (decreased from a 7.7-mile radius) of the Lafayette Regional Airport/Paul Fournet Field; within a 6.7-mile radius (decreased from a 6.9-mile radius) of Acadiana Regional Airport, New Iberia, LA; updates the names of Lafayette Regional Airport/Paul Fournet Field (previously Lafayette Regional Airport), Abbeville Chris Crusta Memorial Airport (previously Abbeville Municipal Airport), and Acadiana Regional Airport (previously Acadiana Regional) to coincide with the FAA's aeronautical database; and updates the geographic coordinates of Lafayette Regional Airport/Paul Fournet Field to coincide with the FAA's aeronautical database; and removes the city associated with the Acadiana Regional Airport from the airspace legal description to comply with a change to FAA Order 7400.2M, Procedures for Handling Airspace Matters.

This action is the result of an airspace review caused by the decommissioning of the Acadi NDB, which provided navigation information for the instrument procedures at Acadiana Regional Airport and the development of new instrument procedures at Lafayette Regional Airport/Paul Fournet Field.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6002 Class E Airspace Areas Designated as Surface Areas.

* * * * *

ASW LA E2 Lafayette, LA [Amended]

Lafayette Regional Airport/Paul Fournet Field, LA

(Lat. 30°12′18″ N, long. 91°59′16″ W)

Within a 5-mile radius of the Lafayette Regional Airport/Paul Fournet Field. This Class E airspace area is effective during the specific dates and times established in advance by a Notice to Airmen. The effective date and time will thereafter be continuously published in the Chart Supplement.

Paragraph 6003 Class E Airspace Areas Designated as an Extension to a Class C Surface Area.

* * * * *

ASW LA E3 Lafayette, LA [Removed]

Paragraph 6005 Class E Airspace Areas Extending Upward From 700 Feet or More Above the Surface of the Earth.

* * * * *

ASW LA E5 Lafayette, LA [Amended]

Lafayette Regional Airport/Paul Fournet Field, LA

(Lat. 30°12′18″ N, long. 91°59′16″ W)

Abbeville Chris Crusta Memorial Airport, LA

(Lat. 29°58′33″ N, long. 92°05′03″ W)

Acadiana Regional Airport, LA

(Lat. 30°02′16″ N, long. 91°53′02″ W)

That airspace extending upward from 700 feet above the surface within a 7.5-mile radius of Lafayette Regional Airport/Paul Fournet Field, and within a 6.4-mile radius of Abbeville Chris Crusta Memorial Airport, and within a 6.7-mile radius of Acadiana Regional Airport.

Issued in Fort Worth, Texas, on December 11, 2019.
Steve Szukala,
Acting Manager, Operations Support Group, ATO Central Service Center.

[FR Doc. 2019-27276 Filed 12-18-19; 8:45 am]

BILLING CODE 4910-13-P